Title 3—

The President

Proclamation 10508 of December 16, 2022

Wright Brothers Day, 2022

By the President of the United States of America

A Proclamation

On Wright Brothers Day, we celebrate the ingenuity and perseverance of Orville and Wilbur Wright, whose aircraft expanded the limits of human discovery and lifted this Nation to new heights.

From their home in Dayton, Ohio, the Wright Brothers were captivated—“afflicted,” in Wilbur's words—by the belief that humans could fly. They researched and experimented, redesigned and repaired, and braved dangerous early trials. When their Wright Flyer finally took to the skies over Kitty Hawk, North Carolina, on December 17, 1903, they launched the future of aviation and helped define the American spirit: bold, daring, innovative, and always asking what is next.

That same spirit has delivered ground-breaking discoveries in American air and space technology for almost 120 years. America has broken the sound barrier, put a man on the moon, collaborated to create the International Space Station, and achieved powered flight on Mars. Just last year, we launched the most powerful deep-space telescope ever sent into space and gained a new window into the history of our universe.

We are also carrying on the Wright Brothers' legacy by always striving for better safety and comfort in air travel. Our Bipartisan Infrastructure Law is investing $25 billion to renovate airport terminals; upgrade air traffic control facilities; and improve runways, taxiways, and other vital infrastructure that make flying easier and more secure. We have pushed airlines to rebook travelers' tickets for free when flights are significantly delayed or canceled, and to disclose fees, like for checked baggage, clearly and up front. And we are exploring new technologies that can decrease carbon emissions coming from airplanes.

As inheritors of game-changing innovations and torch-bearers of the spirit of American ingenuity, we have so much to be proud of and so much to look forward to. We can lead the world in the technologies of tomorrow, change the course of human health and disease, tackle the climate crisis, and continue shaping a fairer, more equitable planet. With shared purpose, unyielding faith in our future, and a drive to make the impossible possible, there is nothing beyond our capacity. I have never been more optimistic about our Nation's future—especially in our skies and in space.

The Congress, by a joint resolution approved December 17, 1963, as amended (77 Stat. 402; 36 U.S.C. 143), has designated December 17 of each year as “Wright Brothers Day” and has authorized and requested the President to issue annually a proclamation inviting the people of the United States to observe that day with appropriate ceremonies and activities.

NOW, THEREFORE, I, JOSEPH R. BIDEN JR., President of the United States of America, do hereby proclaim December 17, 2022, as Wright Brothers Day.

IN WITNESS WHEREOF, I have hereunto set my hand this sixteenth day of December, in the year of our Lord two thousand twenty-two, and of the Independence of the United States of America the two hundred and forty-seventh.

[FR Doc. 2022-27934

Filed 12-20-22; 11:15 am]

Billing code 3395-F3-P